FEDERAL COMMUNICATIONS COMMISSION

[WC Docket No. 20-68; DA 21-1103; FR ID 50348]

Exemption From Caller ID Authentication Requirements

AGENCY: Federal Communications Commission.

ACTION: Notice.

SUMMARY: In this document, the Wireline Competition Bureau (Bureau) provides directions and filing instructions for the implementation verification certifications that voice service providers granted an exemption from the Commission's caller ID authentication rule must file.

DATES: All certifications and associated supporting statements must be filed no later than October 4, 2021.

ADDRESSES: All certifications and associated supporting statements must be filed electronically in WC Docket No. 20-68, Exemption from Caller ID Authentication Requirements, in the Commission's Electronic Comment Filing System (ECFS), available at http://www.fcc.gov/ecfs.

Filers may request that any materials or information submitted to the Commission in their certifications be withheld from public inspection pursuant to the procedures set forth in section 0.459 of the Commission's rules. However, effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, 35 FCC Rcd 2788 (March 19, 2020), https://www.fcc.gov/document/fcc-closes-headquarters-open-window-and-changes-hand-delivery-policy.

FOR FURTHER INFORMATION CONTACT: For further information, please contact Alexander Hobbs, Competition Policy Division, Wireline Competition Bureau at (202) 418-7433 or by email at Alexander.Hobbs@fcc.gov.

SUPPLEMENTARY INFORMATION: This document is a summary of the Bureau's Public Notice providing directions and filing instructions for the implementation verification certifications that voice service providers granted an exemption from the caller ID authentication rule must file, in WC Docket No. 20-68, DA 21-1103, released on September 3, 2021. The full text of this document is available for public inspection at the following internet address: https://docs.fcc.gov/public/attachments/DA-21-1103A1.pdf. To request materials in accessible formats for people with disabilities (e.g., braille, large print, electronic files, audio format, etc.), send an email to fcc504@fcc.gov or call the Consumer & Governmental Affairs Bureau at (202) 418-0530 (voice), or (202) 418-0432 (TTY).

Synopsis

When Congress directed the Commission to mandate the implementation of STIR/SHAKEN caller ID authentication by June 30, 2021, in the TRACED Act, it also required the Commission to grant exemptions from that mandate for voice service providers that could demonstrate early implementation progress by December 30, 2021. The Commission found that the TRACED Act created two exemptions: One for IP networks and one for non-IP networks. Under the Commission's application of the TRACED Act, to receive the IP network exemption, a voice service provider was required to (i) have undertaken the network preparations necessary to deploy the STIR/SHAKEN protocols on its network; (ii) have completed formal registration (including payment) and testing with the Policy Administrator; (iii) have completed the necessary network upgrades to at least one network element to enable the authentication and verification of caller ID information consistent with the STIR/SHAKEN standards; and (iv) asserted that it reasonably foresaw that it would have completed all necessary network upgrades to its network infrastructure to be able to authenticate and verify caller ID information for all SIP calls exchanged with STIR/SHAKEN-enabled partners by June 30, 2021.

The Commission implemented this TRACED Act requirement via a certification process and delegated authority to the Wireline Competition Bureau (Bureau) to make exemption determinations. Voice service providers seeking to qualify for the exemption were obligated to submit a certification and supporting statement by December 1, 2020, explaining in detail how they met each prong of the exemption sought. Because the fourth prong of the IP exemption was based on a voice service provider's prediction of its future ability to implement STIR/SHAKEN, the Commission foreclosed the possibility for abuse of this statutory provision and required any voice service provider granted an exemption to verify in a second certification, after June 30, 2021, that it achieved the implementation goals to which it first certified.

Seven voice service providers sought exemptions for their IP networks. In December 2020, the Bureau found that all seven voice service providers—AT&T Service Inc. (AT&T), Bandwidth Inc. (Bandwidth), Charter Communications, Inc. (Charter), Comcast Cable Communications, LLC (Comcast, Cox Communications, Inc. (Cox), Cellco Partnership, d/b/a Verizon Wireless (Verizon Wireless), and Vonage Holding Corp. (Vonage)—qualified for the exemption on the basis that each certified and offered sufficient support to demonstrate satisfaction of all the criteria for an IP network exemption. These voice service providers were “therefore exempt from the requirements of section 64.6301 of [the Commission's] rules.” They were nonetheless obligated to file in the Robocall Mitigation Database as required by section 64.6305 of the Commission's rules and certify to their STIR/SHAKEN implementation status and, as appropriate, robocall mitigation efforts.

Implementation Verification Certification Requirements. In order to maintain the exemption from section 64.6301 of the Commission's rules, each voice service provider granted an exemption must now “verify they completed full implementation in accordance with their commitments.” An officer of the voice service provider is required to sign the certification stating under penalty of perjury that the officer has personal knowledge that the company did in fact complete all necessary network upgrades to its network infrastructure by June 30, 2021. Each voice service provider granted an exemption is required to submit an accompanying statement explaining, in detail, how the company achieved the implementation goals it first certified to so that the Commission can verify the accuracy of the certification. Any voice service provider that cannot certify to full implementation will lose the exemption and be subject to the general rule requiring full STIR/SHAKEN implementation, effective immediately upon release of the Public Notice identifying which voice service providers achieved the implementation goals to which they previously committed.

Federal Communications Commission.
Pamela Arluk,
Chief, Competition Policy Division.

[FR Doc. 2021-22577 Filed 10-15-21; 8:45 am]

BILLING CODE 6712-01-P